FEDERAL COMMUNICATIONS COMMISSION

47 CFR Part 24

[WT Docket No. 96-148 and GN Docket No. 96-113; FCC 00-88]

Geographic Partitioning and Spectrum Disaggregation by Commercial Mobile Radio Services Licensees and the Implementation of the Communications Act—Elimination of Market Entry Barriers

AGENCY: Federal Communications Commission.

ACTION: Final rule; dismissal of petitions.

SUMMARY: This document dismisses the petitions filed by the National Telephone Cooperative Association (NTCA) and Omnipoint Corporation (Omnipoint) requesting reconsideration of a previous Commission decision that: eliminated the restriction permitting partitioning only to rural telephone companies; prohibited entrepreneur block licensees from swapping spectrum blocks with non-entrepreneur block licensees in the same geographic market; and required the filing of the associated contract for sale and related documents together with any partitioning and/or disaggregation application that is filed within the first three years following issuance of a new PCS license through competitive bidding. This document also dismisses as moot the Rural Telecommunications Group's Motion for Stay to stay the effective date of the new rules adopted in the same Commission decision. This action by the Commission eliminates market entry barriers, thereby increasing competition in the PCS marketplace while expeditiously speeding service to the public.

ADDRESSES: Comments should be filed with the Office of the Secretary, Federal Communications Commisison, TW B204, 445 12th Street, SW Washington, DC 20554. Comments also should be provided to Steve Weingarten, Chief, Commercial Wireless Division, Room 4C-224, Wireless Telecommunications Bureau, Federal Communications Commission, 445 12th Street, SW Washington, DC 20554.

FOR FURTHER INFORMATION CONTACT: Diane Conley, Wireless Telecommunications Bureau at (202) 418-0786.

SUPPLEMENTARY INFORMATION: The final rule published at 62 FR 653 (January 6, 1997) previously adopted by the Commission, and this document is in keeping with Congress' goal of increasing competition in that it allows more competitors to enter the marketplace and deploy services to the public quickly and efficiently, as well as, provide opportunities for rural telcos and other small businesses to provide broadband PCS to the public without increasing the administrative burden to the Commission. This document was released on April 13, 2000, and is available for inspection and copying during normal business hours in the FCC Reference Center, 445 12th Street, SW Washington, D.C. The complete text may be purchased from the Commission's copy contractor, International Transcription Service, Inc., 1231 20th Street, NW Washington, DC 20036/(202) 857-3800. The Memorandum Opinion and Order is also available via the Internet at http://www.fcc.gov/Bureaus/Wireless/Orders/2000.

Federal Communications Commission.
William F. Caton,
Deputy Secretary.

[FR Doc. 00-10353 Filed 5-1-00; 8:45 am]

BILLING CODE 6712-01-P